DEPARTMENT OF EDUCATION

[Docket No.: ED-2020-SCC-0154]

Agency Information Collection Activities; Submission to the Office of Management and Budget for Review and Approval; Comment Request; Quarterly Budget and Expenditure Reporting Under CARES Act Sections 18004(a)(1) Institutional Portion, 18004(a)(2), and 18004(a)(3)

Correction

In notice document 2020-28000, appearing on page 83068 in the issue of Monday, December 21, 2020, make the following correction:

On page 83068, in the second column, in the DATES section, change “January 20, 2021” to read “January 21, 2021.”

[FR Doc. C1-2020-28000 Filed 1-12-21; 8:45 am]

BILLING CODE 1301-00-D